DEPARTMENT OF COMMERCE

National Oceanic and Atmospheric Administration

[I.D. 050901F]

Taking and Importing Marine Mammals; Taking Marine Mammals Incidental to Rocket Launches

AGENCY: National Marine Fisheries Service (NMFS), National Oceanic and Atmospheric Administration (NOAA), Commerce.

ACTION: Notice of issuance of modification and annual renewal of a letter of authorization.

SUMMARY: In accordance with provisions of the Marine Mammal Protection Act (MMPA) as amended, notification is hereby given that a modification and annual renewal to a Letter of Authorization (LOA) to take small numbers of marine mammals incidental to rocket launches at Vandenberg Air Force Base (VAFB) and on the Northern Channel Islands has been issued to the 30th Space Wing, U.S. Air Force.

DATES: Effective from May 31, 2001, until May 31 2002.

ADDRESSES: The letter of authorization and supporting documentation are available for review during regular business hours at the following offices: Marine Mammal Conservation Division, Office of Protected Resources, NMFS, 1315 East-West Highway, Silver Spring, MD 20910-3225, and the Southwest Region, NMFS, 501 West Ocean Boulevard, Suite 4200, Long Beach, CA 90802.

FOR FURTHER INFORMATION CONTACT: Simona P. Roberts, Office of Protected Resources, NMFS, (301) 713-2322, ext. 106, or Christina Fahy, Southwest Region, NMFS, (562) 980-4023.

SUPPLEMENTARY INFORMATION:

Background

Section 101(a)(5)(A) of the MMPA (16 U.S.C. 1361 et seq.) directs NMFS to allow, on request, the incidental, but not intentional, taking of small numbers of marine mammals by U.S. citizens who engage in a specified activity (other than commercial fishing) within a specified geographical region if certain findings are made and regulations are issued. Under the MMPA, the term “taking” means to harass, hunt, capture, or kill or to attempt to harass, hunt, capture, or kill marine mammals.

Permission may be granted for periods up to 5 years if NMFS finds, after notification and opportunity for public comment, that the taking will have a negligible impact on the species or stock(s) of marine mammals and will not have an unmitigable adverse impact on the availability of the species or stock(s) for subsistence uses. In addition, NMFS must prescribe regulations that include permissible methods of taking and other means effecting the least practicable adverse impact on the species and its habitat and on the availability of the species for subsistence uses, paying particular attention to rookeries, mating grounds, and areas of similar significance. The regulations must include requirements pertaining to the monitoring and reporting of such taking. Regulations governing the taking of seals and sea lions incidental to missile and rocket launches, aircraft flight test operations, and helicopter operations at Vandenberg were published on March 1, 1999 (64 FR 9930), and remain in effect until December 31, 2003.

In accordance with the MMPA, as amended, and implementing regulations, a 1-year LOA to take small numbers of seals and sea lions was issued on May 31, 2000, to the 30th Space Wing (65 FR 37361).

Summary of Request

On February 5, 2001, the 30th Space Wing, U.S. Air Force, requested a modification to their LOA issued on May 31, 2000. The letter requested modifications to the launch schedule and revisions to the LOA's current monitoring requirements, specifically: (1) to eliminate the number of launches specified for each type of launch vehicle (Titan II, Titan IV, Lockheed-Martin, Delta II, Taurus, Atlas, and Minotaur) to more accurately reflect the year to year variability of launch vehicle type; (2) to clarify that space launches occur from both North and South Vandenberg; (3) to increase the observation period prior to launches from 48 hours before any planned launch time to 72 hours before any planned launch time; (4) to include monitoring over a 2-week period during pupping season following any launches of government and commercial space vehicles, not just following Titan II and Titan IV launches as the current LOA requires; and, (5) to change the criterion for monitoring pinnipeds on the Northern Channel Islands from when sonic booms are predicted to be “focused” or greater than 2 pounds per square foot (psf) to criterion for monitoring pinnipeds on the Northern Channel Islands when predicted sonic booms are greater than 1 psf. A final modification request to conduct observations on harbor seal and other pinniped activity only during the harbor seal pupping season (March-June), as opposed to during any launch, was inconsistent with the 5-year programmatic implementing regulations (64 FR 9930). Due to this discrepancy, NMFS determined that this final request must be denied because it first requires modification of the current regulations governing space vehicle and test flight activities (50 CFR 216.120-128). In addition to these requested modifications to the launch schedule and monitoring requirements, the 30th Space Wing also requested renewal of their 1-year LOA for the year 2001-2002.

Comments

On March 19, 2001 (66 FR 15406) NMFS published a notice of proposed modification and annual renewal and a 30-day public comment period was provided on the proposed modifications and annual renewal. During the 30-day public comment period no comments were received.

Authorization

In recognition of the timely receipt and acceptance of the reports required under 50 CFR 216.125(d) and a determination that the mitigation measures required pursuant to 50 CFR 216.124 and the LOA have been undertaken, NMFS has renewed and made the requested modifications to the 1-year LOA. Issuance of this LOA is based on a finding that the total takings will have no more than a negligible impact on the seal and sea lion populations off the Vandenberg coast and on the Northern Channel Islands.

Dated: May 23, 2001.
Wanda L. Cain,
Acting Deputy Director, Office of Protected Resources, National Marine Fisheries Service.

[FR Doc. 01-13834 Filed 5-31-01; 8:45 am]

BILLING CODE 3510-22-S